DEPARTMENT OF ENERGY

Federal Energy Regulatory Commission

[Project No. 12628-001]

The City of Nashua, IA; Notice of Intent To File License Application, Filing of Pre-Application Document, and Approving Use of the Traditional Licensing Process

March 28, 2007.

a. Type of Filing: Notice of Intent to File License Application and Request to Use the Traditional Licensing Process.

b. Project No.: 12628-001.

c. Dated Filed: January 18, 2007.

d. Submitted By: The City of Nashua, Iowa.

e. Name of Project: Cedar Lake Dam Hydroelectric Project.

f. Location: The project would be located at the existing Cedar Lake Dam, on the Cedar River, in Chickasaw County, Iowa. The project would not occupy any Federal land.

g. Filed Pursuant to: 18 CFR 5.3 of the Commission's regulations.

h. Potential Applicant Contact: Ms. Rebecca Neal, The City of Nashua, 402 Main Street, Nashua, IA 50658; (641) 435-4156.

i. FERC Contact: Michael Watts, (202) 502-6123, or michael.watts@ferc.gov.

j. The City of Nashua filed its request to use the Traditional Licensing Process on January 18, 2007. The City of Nashua provided public notice of its request on January 31, 2007. In a letter dated March 23, 2007, the Director of the Office of Energy Projects approved the City of Nashua's request to use the Traditional Licensing Process.

k. With this notice, we are initiating informal consultation with: (a) The U.S. Fish and Wildlife Service under section 7 of the Endangered Species Act; and (b) the Iowa State Historic Preservation Officer, as required by section 106, National Historical Preservation Act, and the implementing regulations of the Advisory Council on Historic Preservation at 36 CFR 800.2.

l. The City of Nashua filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filing and issuances related to this or other pending projects. For assistance, contact FERC Online Support.

Philis J. Posey,
Acting Secretary.

[FR Doc. E7-6102 Filed 4-2-07; 8:45 am]

BILLING CODE 6717-01-P